DEPARTMENT OF STATE

[Public Notice 5760]

U.S. National Commission for UNESCO; Notice of Annual Meeting

SUMMARY: The Annual Meeting of the U.S. National Commission for the United Nations Educational, Scientific, and Cultural Organization (UNESCO) will take place on Monday, May 21, 2007 and Tuesday, May 22, 2007, at the Marriott Georgetown University Conference Hotel, Washington, DC (3800 Reservoir Road, NW.). The theme of this year's Annual Meeting is “UNESCO as a Capacity Builder: Pursuing its mandate through Education, the Sciences, Culture, and Communications.” On Monday, May 21 from 9 a.m. to 12 p.m. and from 2:15 p.m. to 5 p.m. and on Tuesday, May 22 from 9 a.m. to 12 p.m., the Commission will hold a series of informational plenary sessions and subject-specific committee breakout sessions, which will be open to the public. On Tuesday, May 22, 2007, the Commission will meet from 1:45 p.m. until 4 p.m. to discuss recommendations on the meeting's theme and other UNESCO-related issues. Members of the public who wish to attend any of these meetings should contact the U.S. National Commission for UNESCO no later than Wednesday, May 16th for further information about admission, as seating is limited. Those who wish to make oral comments during the public comment section held during the concluding session Tuesday afternoon should request to be scheduled by Wednesday, May 16th. Each individual will be limited to five minutes, with the total oral comment period not exceeding thirty minutes. Written comments should be submitted by Monday, May 14th to allow time for distribution to the Commission members prior to the meeting. The National Commission may be contacted via e-mail at DCUNESCO@state.gov, or via phone at (202) 663-0026. Its Web site can be accessed at: http://www.state.gov/p/io/unesco/.

Dated: May 1, 2007.
Susanna Connaughton,
U.S. National Commission for UNESCO, Department of State.

[FR Doc. E7-8687 Filed 5-4-07; 8:45 am]

BILLING CODE 4710-19-P